DEPARTMENT OF HEALTH AND HUMAN SERVICES

Administration for Children and Families

[CFDA Number: 93.568]

Reallotment of Fiscal Year 2023 Funds for the Low Income Home Energy Program—Final

AGENCY: Office of Community Services (OCS), Administration for Children and Families (ACF), Department of Health and Human Services (HHS).

ACTION: Notice of Final Issuance.

SUMMARY: The Office of Community Services (OCS) announces that $15,494,946 of funds from the federal fiscal year 2023 (FY23) Low Income Home Energy Assistance Program (LIHEAP) were reallotted to states, territories, tribes, and tribal organizations that received FY24 direct LIHEAP grants.

DATES: This notice became effective upon its publication.

FOR FURTHER INFORMATION CONTACT: Jolleen Janelle George, Acting Director, Office of Community Services, 330 C Street SW, 5th Floor; Mail Room 5425; Washington, DC 20201. Telephone: (202) 401-4830; email: jolleen.george@acf.hhs.gov.

SUPPLEMENTARY INFORMATION: In accordance with section 2607(b)(1) of the Low Income Home Energy Assistance Act of 1981, as amended, (the Act) (42 U.S.C. 8626(b)(1)), ACF published a notice in the Federal Register on September 19, 2024, 89 FR 76844, announcing the Secretary's preliminary determination that $18,363,980 of FY23 funds for LIHEAP may be available for reallotment. ACF received no comments on this notice. After publication, ACF reduced this amount to $15,603,143 because of (1) reporting revisions made by recipients; (2) insufficient Payment Management System balances; and (3) minor rounding adjustments. ACF redistributed $15,494,946 of these funds as though they were appropriated for FY24, in accordance with section 2607(b)(2)(C) of the Act (42 U.S.C. 8626(b)(2)(C)).

The $15,494,946 became available from the following recipients in the following amounts:

Name of recipient that returned funds for reallotment | FY23 Reallotment amount
Alaska | $4,917,545
Idaho | 7,195,260
Michigan | 55,139
Commonwealth of the Northern Mariana Islands | 30,897
Absentee Shawnee Tribe of Indians of Oklahoma | 7,838
Alabama-Quassarte Tribal Town | 38
Bishop Paiute Tribe | 1,846
Blackfeet Tribe | 66,242
Catawba Indian Nation | 14,656
Cheyenne and Arapaho Tribes | 7,692
Choctaw Nation of Oklahoma | 80,195
Coeur d'Alene Tribe | 18,278
Comanche Nation | 4,726
Confederated Salish and Kootenai Tribes | 360,718
Confederated Tribes of Siletz Indians of Oregon | 17,239
Confederated Tribes of the Grand Ronde Community of Oregon | 11,716
Cow Creek Band of Umpqua Tribe of Indians | 511
Dena'Nena'Henash—Tanana Chiefs Conference | 26,018
Eastern Shoshone Tribe | 135,825
Fort Peck Assiniboine and Sioux Tribes | 584,537
Gila River Indian Community | 73,461
Hoh Tribe | 2,212
Hoopa Valley Tribe | 12,878
Hopland Band of Pomo Indians | 2,244
Inter-Tribal Council of MI, Inc. | 112,668
Jicarilla Apache Nation | 20,062
Little River Band of Ottawa Indians | 6,123
Mashpee Wampanoag Tribe | 4,072
Mi'kmaq Nation | 29,682
Mississippi Band of Choctaw Indians | 8,426
Modoc Nation | 830
Muckleshoot Indian Tribe | 1,110
Navajo Nation | 760,233
Nooksack Indian Tribe | 36,196
Northern Arapaho Tribe | 5,258
Northern California Indian Development Council, Inc. | 845
Northern Cheyenne Tribe | 22,783
Orutsararmiut Native Council | 194,196
Otoe-Missouria Tribe of Indians | 2,975
Pleasant Point Tribal Government | 50,685
Poarch Band of Creek Indians | 146,887
Pueblo of Jemez | 11,765
Pueblo of Zuni | 6,813
Quapaw Nation | 22,161
Quileute Tribe | 23,001
Quinault Indian Nation | 17,503
Riverside-San Bernardino County Indian Health, Inc | 6,644
Sac and Fox Nation of Oklahoma | 6,573
Samish Indian Nation | 11,088
San Carlos Apache Tribe | 8,904
Sault Ste. Marie Tribe of Chippewa Indians | 1,064
Spirit Lake Nation | 101,127
Spokane Tribe of Indians | 23,773
Swinomish Indian Tribal Community | 18,028
The Delaware Tribe of Indians | 4,501
The Klamath Tribes | 157,812
Tonkawa Tribe of Oklahoma | 1,276
United Cherokee Ani-Yun-Wiya Nation | 33,524
Ute Indian Tribe | 8,647
Total | 15,494,946

The list of recipients that were awarded these funds was published in a Dear Colleague Letter that is posted to ACF's website.

Pursuant to the statute cited above, these funds were reallotted on September 23, 2024, to all but two types of FY24 LIHEAP recipients by distributing them under the formula that Congress set for FY24 funding. The two types of recipients that did not receive funds were (1) those whose allocations would have been less than $25 (see 45 CFR 96.81(c)); and (2) tribes or tribal organizations that agreed with their co-territorial states to receive set amounts for the entire fiscal year (see 42 U.S.C. 8623(d)(2)). No sub-recipients of these recipients or other entities may apply for these funds.

The reallotted funds may be used for any purpose authorized under LIHEAP. Recipients must add these funds to their total LIHEAP funds payable for FY24 for purposes of calculating statutory caps on administrative costs, carryover, Assurance 16 activities, and weatherization assistance. Recipients must also (1) ensure that these funds are included in the amounts that ACF pre-populates on Line 1.1 of their FY24 Carryover and Reallotment Reports; (2) on the associated Federal Financial Report (FFR), reconcile these funds, to the extent that they received them, with all other sources that ACF categorized under an award number ending in “LIEA”; and (3) record, on their FY24 Household Reports, households that receive benefits at least partly from these funds. State recipients must also ensure that these funds are included in the Grantee Survey sections of their FY24 LIHEAP Performance Data Forms.

OCS recommends that, after receiving them, recipients obligate these funds before obligating any other federal LIHEAP funds.

Statutory Authority: 42 U.S.C. 8626(b)

Anthony Petruccelli,
Senior Grants Policy Specialist, Office of Grants Policy, Office of Administration.

[FR Doc. 2025-13448 Filed 7-16-25; 8:45 am]

BILLING CODE 4184-80-P